DEPARTMENT OF COMMERCE

National Oceanic and Atmospheric Administration

[RTID 0648-XD529]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day hybrid meeting with both in-person and remote participation to consider actions affecting New England fisheries in the exclusive economic zone (EEZ).

DATES: The meeting will be held on Tuesday, Wednesday, and Thursday, December 5, 6, and 7, 2023, beginning at 9:30 a.m. on Tuesday and 9:00 a.m. on Wednesday and Thursday.

ADDRESSES: The meeting will be held at the Hotel Viking, One Bellevue Avenue, Newport, RI 02840; telephone (401) 847-3300; online at www.hotelviking.com. Join the webinar at https://register.gotowebinar.com/register/8673787082024040282.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Tuesday, December 5, 2023

After brief announcements, the Council will receive reports on recent activities from its Chair and Executive Director, the GARFO Regional Administrator, the NOAA Office of General Counsel, the Northeast Fisheries Science Center (NEFSC) Director, the Mid-Atlantic Fishery Management Council liaison, and representatives from the Atlantic States Marine Fisheries Commission (ASMFC), the U.S. Coast Guard, NOAA's Office of Law Enforcement, the Northeast Trawl Advisory Panel, and the U.S. Fish and Wildlife Service. The Council then will receive a progress report from its Risk Policy Working Group, which is continuing to work on revisions to the Council's Risk Policy Statement. Next, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf.

After the lunch break, the Council will receive a report from the East Coast Climate Coordination Group about its first meeting on work following up on implementing recommendations from the East Coast Climate Change Scenario Planning Initiative. The Council will engage in a discussion about next steps. The Responsible Offshore Science Alliance (ROSA) will report on the alliance's mission, activities, and steps to support the Council's offshore wind efforts and streamline communications. The Habitat Committee report will follow. The Council will review its comments on the draft Wind Energy Areas for the Gulf of Maine (GOM) and discuss other GOM leasing/planning issues. It also will receive a presentation on other offshore wind and habitat-related updates. To close out the day, the Council will receive a NOAA General Counsel briefing on disclosure of financial interests and voting recusal regulations for regional fishery management council members. Following the adjournment of official business, the Council will host a public outreach session to foster open lines of communication among Council members, staff, industry, and all meeting attendees.

Wednesday, December 6, 2023

The Council will begin the second day of its meeting with a presentation on the peer-reviewed results of the September 2023 Management Track Stock Assessments for Acadian redfish, Atlantic mackerel, northern and southern red hake, the Northeast skate complex, northern windowpane flounder, and spiny dogfish. Next, the Council's Scientific and Statistical Committee will provide overfishing limit (OFL) and acceptable allowable biological catch (ABC) recommendations for Gulf of Maine haddock, Acadian redfish, northern and southern windowpane flounder, white hake, northern and southern red hake, northern silver hake, southern whiting (silver and offshore hake combined), Atlantic sea scallops, and the Northeast skate complex. The Skate Committee report will follow. The Council will take final action on Framework 12 to the Northeast Skate Complex Fishery Management Plan (FMP), which was initiated to develop 2024-2025 fishery specifications and measures to expand possession of smooth and barndoor skates.

Following the lunch break, the Council will take final action on 2024-2026 specifications for the small-mesh multispecies (whiting) fishery. The Council then will hear from the Scallop Committee and take final action on Scallop Framework 38, which contains 2024 fishery specifications, 2025 default specifications, alternatives for increased vessel monitoring system (VMS) polling rates near closed area boundaries, and other measures. As the last item of business for the day, the Council will receive an update on a joint scallop/habitat action to potentially authorize scallop fishery access to the Habitat Closure Area on the Northern Edge of Georges Bank.

Thursday, December 7, 2023

The Council will lead off the third day of its meeting with the Groundfish Committee report, which will cover three items. First, the Council will take final action on Framework Adjustment 66 to the Northeast Multispecies (Groundfish) FMP, which includes (1) 2024-2025 total allowable catches for U.S./Canada shared resources on Georges Bank; (2) 2024-2025 specifications for Georges Bank yellowtail flounder, white hake, and Gulf of Maine haddock; (3) 2024-2026 specifications for Acadian redfish, northern windowpane, and southern windowpane; (4) a revised white hake rebuilding plan; (5) Atlantic halibut issues; (6) extending removal of the sector management uncertainty buffer for white hake and Gulf of Maine haddock until the next specifications cycle; and (7) modification of the scallop fishery accountability measure for Georges Bank yellowtail flounder for fishing years 2024 and 2025. Next, the Council will receive a progress report on Framework Adjustment 68 to the Groundfish FMP, which is being developed to revise the ABC control rules for groundfish. Finally, the Council will receive an update on the Atlantic Cod Management Transition Plan.

Following the lunch break, the Council will take final action on 2024 Council Priorities for all fishery management plans and other Council responsibilities. The Council then will close out the meeting with other business.

Although non-emergency issues not contained on this agenda may come before the Council for discussion, those issues may not be the subject of formal action during these meetings. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

These meetings are physically accessible to people with disabilities. Requests for sign language interpretation or other auxiliary aids should be directed to Executive Director Cate O'Keefe (see ADDRESSES) at least 5 days prior to the meeting date.

Authority: 16 U.S.C. 1801 et seq.

Dated: November 13, 2023.
Rey Israel Marquez,
Acting Deputy Director, Office of Sustainable Fisheries, National Marine Fisheries Service.

[FR Doc. 2023-25358 Filed 11-15-23; 8:45 am]

BILLING CODE 3510-22-P